DEPARTMENT OF TRANSPORTATION

Federal Aviation Administration

14 CFR Part 73

[Docket No. FAA-2004-17774; Airspace Docket No. 04-ACE-32]

RIN 2120-AA66

Modification of Restricted Areas 3601A and 3601B; Brookville, KS

AGENCY: Federal Aviation Administration (FAA), DOT.

ACTION: Final rule.

SUMMARY: This action revises Restricted Areas 3601A (R-3601A) and 3601B (R-3601B), at Brookville, KS, in response to a request from the United States Air Force (USAF). Specifically, this action revises R-3601A and R-3601B by combining their lateral boundaries, expanding the ceiling to flight level 230 (FL230), and re-designating the lower portion of the combined area as R-3601A and the upper portion as R-3601B. Additionally, this action changes the using agency of R-3601A and R-3601B from “Commander, Kansas ANG, McConnell AFB, KS” to “Air National Guard, 184th Air Refueling Wing, Detachment 1, Smoky Hill ANG Range, Salina, KS.” These revisions will fulfill new USAF requirements for high altitude release bomb training for fighter aircraft and medium-to-high altitude release bomb training for bombers.

EFFECTIVE DATE: 0901 UTC, August 30, 2007.

FOR FURTHER INFORMATION CONTACT: Steve Rohring, Airspace and Rules Group, Office of System Operations Airspace and AIM, Federal Aviation Administration, 800 Independence Avenue, SW., Washington, DC 20591; telephone: (202) 267-8783.

SUPPLEMENTARY INFORMATION:

History

On July 21, 2004, the FAA published in the Federal Register a notice of proposed rulemaking to modify the ceiling and lateral boundaries, and change the using agency of R-3601A and R-3601B to assist the USAF in fulfilling new high altitude release bomb training requirements for fighter aircraft and new medium-to-high altitude release bomb training requirements for bombers (69 FR 43539). The current altitude structure is not sufficient to meet these new training requirements. Interested parties were invited to participate in the rulemaking effort by submitting written comments on this proposal to the FAA. The FAA received no comments in response to the proposal. With the exception of editorial changes, this amendment is the same as that proposed in the notice.

Section 73.36 of Title 14 CFR part 73 was republished in FAA Order 7400.8N, dated February 16, 2007.

The Rule

This action amends Title 14 Code of Federal Regulations (14 CFR) part 73 by revising R-3601A and R-3601B at Brookville, KS, and changing the using agency. Specifically, this action revises R-3601A and R-3601B by combining their lateral boundaries, expanding the ceiling, and re-designating the lower portion (surface to but not including FL 180) as R-3601A and the upper portion (FL 180 to FL 230) as R-3601B. The FAA is taking this action to assist the USAF in meeting new training requirements that call for practicing the release of bombs from higher altitudes than are currently available within the existing restricted areas. Additionally, this action will change the using agency of R-3601A and R-3601B from “Commander, Kansas ANG, McConnell AFB, KS” to “Air National Guard, 184th Air Refueling Wing, Detachment 1, Smoky Hill ANG Range, Salina, KS.” This action does not change the times of use or the controlling agency for R-3601A and R-3601B.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that the Final Environmental Assessment (FEA) prepared by the Kansas Air National Guard for the proposed changes to the Smoky, Smokey High, and Bison MOAs and Restricted Areas 3601A and 3601B meet the criteria for adoption. The FAA has also determined that the proposed actions are consistent with existing national environmental policies and objectives as set forth in section 101 of the National Environmental Policy Act (NEPA) and other applicable environmental requirements and will not significantly affect the quality of the human environment or otherwise include any condition requiring consultation pursuant to section 102(2)(c) of NEPA. Therefore, on May 10, 2007, the FAA adopted the FEA and issued a Finding of No Significant Impact/Record of Decision in accordance with FAA Order 1050.1E, Environmental Impacts: Policies and Procedures.

List of Subjects in 14 CFR Part 73

Airspace, Navigation (air).

The Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.36 [Amended]

2. § 73.36 is amended as follows:

* * * * *

R-3601A Brookville, KS [Revised]

By removing the current boundaries, designated altitudes, and using agency, and substituting the following:

Boundaries. Beginning at lat. 38°45′20″ N., long. 97°46′01″ W.; to lat. 38°39′45″ N., long. 97°46′01″ W.; then southwest along the Missouri Pacific Railroad Track; to lat. 38°38′20″ N., long. 97°47′31″ W.; to lat. 38°38′20″ N., long. 97°50′01″ W.; to lat. 38°35′00″ N., long. 97°50′01″ W.; to lat. 38°35′00″ N., long. 97°56′01″ W.; to lat. 38°45′20″ N., long. 97°56′01″ W.; to the point of beginning.

Designated altitudes. Surface to but not including FL180.

Using Agency. Air National Guard, 184th Air Refueling Wing, Detachment 1, Smoky Hill ANG Range, Salina, KS.

* * * * *

R-3601B Brookville, KS [Revised]

By removing the current boundaries, designated altitudes, and using agency and substituting the following:

Boundaries. Beginning at lat. 38°45′20″ N., long. 97°46′01″ W.; to lat. 38°39′45″ N., long. 97°46′01″ W.; then southwest along the Missouri Pacific Railroad Track; to lat. 38°38′20″ N., long. 97°47′31″ W.; to lat. 38°38′20″ N., long. 97°50′01″ W.; to lat. 38°35′00″ N., long. 97°50′01″ W.; to lat. 38°35′00″ N., long. 97°56′01″ W.; to lat. 38°45′20″ N., long. 97°56′01″ W.; to the point of beginning.

Designated altitudes. FL180 to FL230.

Using Agency. Air National Guard, 184th Air Refueling Wing, Detachment 1, Smoky Hill ANG Range, Salina, KS.

* * * * *

Issued in Washington, DC, June 18, 2007.
Kenneth McElroy,
Acting Manager, Airspace and Rules Group.

[FR Doc. E7-12703 Filed 6-29-07; 8:45 am]

BILLING CODE 4910-13-P